DEPARTMENT OF COMMERCE

Patent and Trademark Office

[Docket No. PTO-P-2024-0009]

USPTO AI/ET Partnership: Public Symposium on Artificial Intelligence and Intellectual Property

AGENCY: Patent and Trademark Office, Department of Commerce.

ACTION: Notice of public meeting.

SUMMARY: The United States Patent and Trademark Office (USPTO) Artificial Intelligence (AI)/Emerging Technologies (ET) Partnership provides opportunities to bring stakeholders together through a series of engagements to share ideas, feedback, experiences, and insights regarding the intersection of intellectual property (IP) and AI/ET. To further the AI/ET Partnership, the USPTO will hold a public symposium on IP and AI virtually and in person at Loyola Law School on March 27, 2024. The symposium will facilitate the USPTO's efforts to implement its obligations under the President's Executive Order 14110, titled “Safe, Secure, and Trustworthy Development and Use of Artificial Intelligence.”

DATES: The symposium will take place on March 27, 2024, from 10 a.m. to 3 p.m. PT. Persons seeking to attend, either virtually or in person, must register by March 22, 2024, at the web page provided in the ADDRESSES section of this notice. Seating is limited for in-person attendance.

ADDRESSES: Information on registration is available at www.uspto.gov/initiatives/artificial-intelligence/ai-and-emerging-technology-partnership-engagement-and-events/public-symposium-ai-and-ip. The public symposium will be held virtually and in-person at the Fritz B. Burns Lounge within the Burns Academic Center, Loyola Law School, Loyola Marymount University, 919 Albany St., Los Angeles, CA 90015. All major entrances to the building are accessible to people with disabilities. Registration is required for both virtual and in-person attendance. Because in-person attendance is limited, the USPTO advises anyone wishing to attend in person to register early.

If you are an individual with a disability and would like to request a reasonable accommodation, please submit your request to AIPartnership@uspto.gov as soon as possible or at least seven business days prior to the symposium.

FOR FURTHER INFORMATION CONTACT: Srilakshmi Kumar, Supervisory Patent Examiner, at 571-272-7769 or srilakshmi.kumar@uspto.gov. You can also send inquiries to AIPartnership@uspto.gov. Please direct all media inquiries to the USPTO's Office of the Chief Communications Officer at 571-272-8400.

SUPPLEMENTARY INFORMATION: The USPTO AI/ET Partnership provides opportunities to bring stakeholders together through a series of engagements to share ideas, feedback, experiences, and insights regarding the intersection of IP and AI/ET. Several of the previous AI/ET Partnership events focused on patent-related inventorship issues. For example, participants in the inaugural AI/ET Partnership meeting in June 2022 discussed patent policy issues related to AI/ET inventions, including subject matter eligibility, disclosure, and inventorship. Additionally, the AI/ET Partnership meeting held in February 2023 focused on various IP policy issues with respect to AI-driven innovation, including ways to address inventions created with significant AI contributions, and unanticipated IP challenges from AI-driven innovation.

The AI/ET Partnership meeting on March 27, 2024, will build on the above-mentioned meetings and will feature panel discussions by experts in the fields of patent, trademark, and copyright law that focus on: (1) a comparison of copyright and patent law approaches to the type and level of human contribution needed to satisfy authorship and inventorship requirements; (2) ongoing copyright litigation involving generative AI; and (3) laws and policy considerations surrounding name, image, and likeness (NIL) issues, including the intersection of NIL and generative AI.

This USPTO event is intended to complement, but not duplicate, the ongoing initiatives of the U.S. Copyright Office to examine copyright law and policy issues raised by AI technologies, which are described at www.copyright.gov/ai/.

Instructions and Information on the Public Symposium

The public symposium will take place virtually and in person at the Fritz B. Burns Lounge within the Burns Academic Center, Loyola Law School, Loyola Marymount University, 919 Albany St., Los Angeles, CA 90015, on March 27, 2024, from 10 a.m. to 3 p.m. PT. The agenda is available on the USPTO website at www.uspto.gov/initiatives/artificial-intelligence/ai-and-emerging-technology-partnership-engagement-and-events/public-symposium-ai-and-ip. You can register to attend the event on the same web page.

Katherine K. Vidal,
Under Secretary of Commerce for Intellectual Property and Director of the United States Patent and Trademark Office.

[FR Doc. 2024-04971 Filed 3-7-24; 8:45 am]

BILLING CODE 3510-16-P